FEDERAL RESERVE SYSTEM

Change in Bank Control Notices; Acquisitions of Shares of a Bank or Bank Holding Company; Correction

This notice corrects a notice (FR Doc. 2022-17925) published on page 51099 in the first column of the issue for Friday, August 19, 2022.

Under A. Federal Reserve Bank of Chicago, entry 1 is corrected to read as follows:

1. The Revocable Trust Agreement No. 060134, James O. Beavers, trustee, both of Taylorville, Illinois; to retain voting shares of First Bancorp of Taylorville, Inc., and thereby indirectly retain voting shares of First National Bank in Taylorville, Taylorville, Illinois, and First Security Bank, Mackinaw, Illinois.

Comments on this application must be received by September 8, 2022.

Board of Governors of the Federal Reserve System.
Ann E. Misback,
Secretary of the Board.

[FR Doc. 2022-18283 Filed 8-23-22; 8:45 am]

BILLING CODE P